DEPARTMENT OF THE INTERIOR

National Park Service

Notice of Inventory Completion for Native American Human Remains and Associated Funerary Objects in the Possession of the U.S. Department of the Interior, National Park Service, Badlands National Park, SD

AGENCY: National Park Service, Interior.

ACTION: Notice.

Notice is hereby given in accordance with provisions of the Native American Graves Protection and Repatriation Act (NAGPRA), 43 CFR 10.9, of the completion of an inventory of human remains and associated funerary objects in the possession of the U.S. Department of the Interior, National Park Service, Badlands National Park, Interior, SD.

This notice is published as part of the National Park Service's administrative responsibilities under NAGPRA, 43 CFR 10.2(c). The determinations within this notice are the sole responsibility of the National Park Service unit that has control or possession of these Native American human remains and associated funerary objects. The Assistant Director, Cultural Resources Stewardship and Partnerships is not responsible for the determinations within this notice.

A detailed inventory and assessment of the human remains has been made by professional staff of the National Park Service in consultation with representatives of the Arapaho Tribe of the Wind River Reservation; Assiniboine and Sioux Tribes of the Fort Peck Indian Reservation, Montana; Blackfeet Tribe of the Blackfeet Indian Reservation of Montana; Cheyenne River Sioux Tribe of the Cheyenne River Reservation, South Dakota; Crow Creek Sioux Tribe of the Crow Creek Reservation, South Dakota; Crow Tribe of Montana; Devils Lake Sioux Tribe of the Devils Lake Sioux Reservation, North Dakota; Flandreau Santee Sioux Tribe of South Dakota; Lower Brule Sioux Tribe of the Lower Brule Cheyenne Tribe; Northern Cheyenne Tribe of the Northern Cheyenne Indian Reservation, Montana; Oglala Sioux Tribe of the Pine Ridge Reservation, South Dakota; Sisseton-Wahpeton Sioux Tribe of the Lake Traverse Reservation, South Dakota; Standing Rock Sioux Tribe of North & South Dakota; and Yankton Sioux Tribe of South Dakota.

In November 1958, human remains representing one individual were discovered eroding out of a cut bank on park property. Evidence of a hearth was noticed adjacent to where the remains were discovered. A partial skull with five intact maxillary teeth and a fragmentary vertebra were removed by the park's chief ranger and formally accessioned into the park's museum collection on June 28, 1959. The rest of the remains were left in place.

The skull exhibits retreating zygomatics, a canine fossa, lack of keeling, and rapid occlusal attrition, all traits common in American Indian populations. Though the oval window is also visible, the remains are most likely Native American. This individual was probably between 16-22 years old at the time of death, based on the eruptions of the third molars, molar root development, dental attrition, and basilar suture closure. The orbital margin, mastoid process, nuchal area, and tooth size indicate that the individual may have been male. No known individual was identified. No associated funerary objects are present.

Human occupation of the Badlands National Park area is believed to date back approximately 11,000 years. The archeological record and oral traditions indicate that the Arikara people camped in the secluded valleys of Badlands National Park year round. Eroding out of the stream banks today are the rocks and charcoal of their campfires. About 150 years ago, the Great Sioux Nation displaced many of the other tribes from the northern prairie.

Based on the above mentioned information, the superintendent of Badlands National Park has determined that, pursuant to 43 CFR 10.2(d)(1), the human remains listed above represent the physical remains of one individual of Native American ancestry. The superintendent of Badlands National Park also has determined that, pursuant to 43 CFR 10.2(e), there is a relationship of shared group identity that can be reasonably traced between these Native American human remains and the Three Affiliated Tribes of the Fort Berthold Reservation, North Dakota; Cheyenne River Sioux Tribe of the Cheyenne River Reservation, South Dakota; Crow Creek Sioux Tribe of the Crow Creek Reservation, South Dakota; Devils Lake Sioux Tribe of the Devils Lake Sioux Reservation, North Dakota; Flandreau Santee Sioux Tribe of South Dakota; Lower Brule Sioux Tribe of the Lower Brule Cheyenne Tribe; Oglala Sioux Tribe of the Pine Ridge Reservation, South Dakota; Sisseton-Wahpeton Sioux Tribe of the Lake Traverse Reservation, South Dakota; Standing Rock Sioux Tribe of North & South Dakota; and Yankton Sioux Tribe of South Dakota.

This notice has been sent to officials of the Arapaho Tribe of the Wind River Reservation; Blackfeet Tribe of the Blackfeet Indian Reservation of Montana; Cheyenne River Sioux Tribe of the Cheyenne River Reservation, South Dakota; Crow Creek Sioux Tribe of the Crow Creek Reservation, South Dakota; Crow Tribe of Montana; Devils Lake Sioux Tribe of the Devils Lake Sioux Reservation, North Dakota; Flandreau Santee Sioux Tribe of South Dakota; Lower Brule Sioux Tribe of the Lower Brule Cheyenne Tribe; Northern Cheyenne Tribe of the Northern Cheyenne Indian Reservation, Montana; Oglala Sioux Tribe of the Pine Ridge Reservation, South Dakota; Sisseton-Wahpeton Sioux Tribe of the Lake Traverse Reservation, South Dakota; Standing Rock Sioux Tribe of North & South Dakota; and Yankton Sioux Tribe of South Dakota. Representatives of any other Indian tribe that believes itself to be culturally affiliated with these human remains should contact William R. Supernaugh, Superintendent, Badlands National Park, P.O. Box 6, Route 240, Interior, SD 57750, telephone (605) 433-5280, before. Repatriation of the human remains to the Three Affiliated Tribes of the Fort Berthold Reservation, North Dakota; Cheyenne River Sioux Tribe of the Cheyenne River Reservation, South Dakota; Crow Creek Sioux Tribe of the Crow Creek Reservation, South Dakota; Devils Lake Sioux Tribe of the Devils Lake Sioux Reservation, North Dakota; Flandreau Santee Sioux Tribe of South Dakota; Lower Brule Sioux Tribe of the Lower Brule Cheyenne Tribe; Oglala Sioux Tribe of the Pine Ridge Reservation, South Dakota; Sisseton-Wahpeton Sioux Tribe of the Lake Traverse Reservation, South Dakota; Standing Rock Sioux Tribe of North & South Dakota; and Yankton Sioux Tribe of South Dakota may begin after that date if no additional claimants come forward.

Dated: March 27, 2001.
John Robbins,
Assistant Director, Cultural Resources Stewardship and Partnerships.

[FR Doc. 01-9751 Filed 4-19-01; 8:45 am]

BILLING CODE 4310-70-F